DEPARTMENT OF HOUSING AND URBAN DEVELOPMENT

[Docket No. FR-5376-N-29]

FHA-Insured Mortgage Loan Servicing of Payments, Prepayments, Terminations, Assumptions and Transfers

AGENCY: Office of the Chief Information Officer, HUD.

ACTION: Notice.

SUMMARY: The proposed information collection requirement described below has been submitted to the Office of Management and Budget (OMB) for review, as required by the Paperwork Reduction Act. The Department is soliciting public comments on the subject proposal.

Information is collected from respondents who are companies (mortgagees) servicing FHA-Insured mortgage loans. This information concerns detailed loan. The information is subject to the Privacy Act and may be made available only to the appropriate Federal, State, and local agencies. The data and information provided is essential for managing HUD's programs and FHA's Mutual Mortgage Insurance Fund.

DATES: Comments Due Date: June 3, 2010.

ADDRESSES: Interested persons are invited to submit comments regarding this proposal. Comments should refer to the proposal by name and/or OMB approval Number (2502-New) and should be sent to: HUD Desk Officer, Office of Management and Budget, New Executive Office Building, Washington, DC 20503; fax: 202-395-5806.

FOR FURTHER INFORMATION CONTACT: Leroy McKinney, Jr., Reports Management Officer, QDAM, Department of Housing and Urban Development, 451 Seventh Street, SW., Washington, DC 20410; e-mail Leroy McKinney, Jr. at Leroy.McKinneyJr@hud.gov or telephone (202) 402-5564. This is not a toll-free number. Copies of available documents submitted to OMB may be obtained from Mr. McKinney.

SUPPLEMENTARY INFORMATION: This notice informs the public that the Department of Housing and Urban Development has submitted to OMB a request for approval of the Information collection described below. This notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: FHA-Insured Mortgage Loan Servicing of Payments, Prepayments, Terminations, Assumptions and Transfers.

OMB Approval Number: 2502-New.

Form Numbers: HUD-27050-A Mortgage Insurance Termination, HUD-92210.1 Approval of Purchaser and Release of Seller, HUD-92080 Mortgage Record Change.

Description of the Need for the Information and Its Proposed Use: Information is collected from respondents who are companies (mortgagees) servicing FHA-Insured mortgage loans. This information concerns detailed loan. The information is subject to the Privacy Act and may be made available only to the appropriate Federal, State, and local agencies. The data and information provided is essential for managing HUD's programs and FHA's Mutual Mortgage Insurance Fund.

Frequency of Submission: On occasion, Monthly, Other within 24 hours of request.

| Number of respondents | Annual responses | × | Hours per response | = | Burden hours
Reporting Burden | 223 | 196.61 |  | 19.004 |  | 833,250

Total Estimated Burden Hours: 833,250.

Status: New Collection.

Authority: Section 3507 of the Paperwork Reduction Act of 1995, 44 U.S.C. 35, as amended.

Dated: April 27, 2010.
Leroy McKinney, Jr.,
Departmental Reports Management Officer, Office of the Chief Information Officer.

[FR Doc. 2010-10322 Filed 5-3-10; 8:45 am]

BILLING CODE 4210-67-P